DEPARTMENT OF HEALTH AND HUMAN SERVICES

Administration for Children and Families

Submission for OMB Review; Comment Request

Title: Descriptive Study of Tribal Temporary Assistance for Needy Families (TANF) Programs—Interview Guides.

OMB No.: New Collection.

Description: The Administration for Children and Families (ACF) is proposing an information collection activity as part of the Descriptive Study of Tribal TANF Programs. The proposed information collection consists of semi-structured interviews and focus groups with key Tribal TANF respondents on questions of Tribal TANF administration, policies, service delivery, and program context. Through this information collection, ACF seeks to gain an in-depth, systematic understanding of program implementation, operations, outputs and outcomes in selected sites, and identify promising practices and other areas for further study.

Respondents: Semi-structured interviews will be held with Tribal TANF administrators and staff, and staff of related programs. Focus groups will be held with Tribal TANF clients.

Annual Burden Estimates

Please note that the burden rates below are revised since the 60 day Federal Register Notice to reflect lower burden hours.

Table 1—Annual Burden Estimates
Instrument | Annual number of respondents | Number of responses per respondent | Average burden hours per response | Total annual burden hours
Discussion Guide for use with tribal TANF Administrators | 4 | 1 | 1.5 | 6
Discussion Guide for use with tribal TANF Staff | 12 | 1 | 1 | 12
Discussion Guide for use with Focus Groups with tribal TANF clients | 20 | 1 | 2 | 40
Discussion guide for use with staff of related programs | 20 | 1 | 1 | 20
All instruments: |  |  |  | 78

Additional Information

Copies of the proposed collection may be obtained by writing to the Administration for Children and Families, Office of Planning, Research, and Evaluation, 370 L'Enfant Promenade, SW., Washington, DC 20447, Attn: OPRE Reports Clearance Officer. All requests should be identified by the title of the information collection. Email address: OPREinfocollection@acf.hhs.gov. OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: March 7, 2012.
Steven M. Hanmer,
Reports Clearance, Officer; Office of Planning, Research and Evaluation.

[FR Doc. 2012-5951 Filed 3-12-12; 8:45 am]

BILLING CODE 4184-37-M